FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. A copy of the agreement is available through the Commission's website (www.fmc.gov) or by contacting the Office of Agreements at (202) 523-5793 or tradeanalysis@fmc.gov.

Agreement No.: 012472-002.

Agreement Name: Yang Ming/COSCO Shipping Slot Exchange Agreement.

Parties: COSCO Shipping Lines Co., Ltd.; Yang Ming Marine Transport Corporation; and Yang Ming (UK) Ltd.

Filing Party: Robert Magovern; Cozen O'Connor.

Synopsis: The amendment revises the Agreement to clarify that the space provided to Yang Ming by COSCO SHIPPING will be provided on the CEN service and the AAC3 service, instead of the AAC service, effective on or around August 27, 2018.

Proposed Effective Date: 8/9/2018.

Location: https://www2.fmc.gov/FMC.Agreements.Web/Public/AgreementHistory/1969.

Dated: August 10, 2018.
Rachel Dickon,
Secretary.

[FR Doc. 2018-17609 Filed 8-14-18; 8:45 am]

BILLING CODE 6731-AA-P